DEPARTMENT OF HEALTH AND HUMAN SERVICES

Centers for Disease Control and Prevention

[60 Day-13-13DB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Emerging Infections Program—New—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases. Various parts of the EIP have received separate Office of Management and Budget (OMB) clearances (Active Bacterial Core Surveillance [ABCs]—OMB number 0920-0802 and All Age Influenza Hospitalization Surveillance—OMB number 0920-0852); however this request seeks to have these core EIP activities under one clearance.

Activities of the EIPs fall into the following general categories: (1) Active surveillance; (2) applied public health epidemiologic and laboratory activities; (3) implementation and evaluation of pilot prevention/intervention projects; and (4) flexible response to public health emergencies. Activities of the EIPs are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease. Proposed respondents will include state health departments who may collaborate with one or more of the following: academic institutions, local health departments, public health and clinical laboratories, infection control professionals, and healthcare providers. Frequency of reporting will be determined as cases arise. The total estimated burden is 12,153 hours. There is no cost to respondents other than their time.

Estimated Annualized Burden Hours *
Type of respondent | Form name | No. of respondents | No. of responses per respondent | Avg. burden per response (in hours) | Total burden (in hours)
State Health Department | ABCs Case Report Form | 10 | 809 | 20/60 | 2697
State Health Department | Invasive Methicillin-resistant Staphylococcus aureus ABCs Case Report Form | 10 | 609 | 20/60 | 2030
State Health Department | ABCs Invasive Pneumococcal Disease in Children Case Report Form | 10 | 41 | 10/60 | 68
State Health Department | Neonatal Infection Expanded Tracking Form | 10 | 37 | 20/60 | 123
State Health Department | ABCs Legionellosis Case Report Form | 10 | 100 | 20/60 | 333
State Health Department | Campylobacter | 10 | 637 | 20/60 | 2123
State Health Department | Cryptosporidium | 10 | 130 | 10/60 | 217
State Health Department | Cyclospora | 10 | 3 | 10/60 | 5
State Health Department | Listeria monocytogenes | 10 | 13 | 20/60 | 43
State Health Department | Salmonella | 10 | 827 | 20/60 | 2757
State Health Department | Shiga toxin producing E. coli | 10 | 90 | 20/60 | 300
State Health Department | Shigella | 10 | 178 | 10/60 | 297
State Health Department | Vibrio | 10 | 20 | 10/60 | 33
State Health Department | Yersinia | 10 | 16 | 10/60 | 27
State Health Department | Hemolytic Uremic Syndrome | 10 | 10 | 60/60 | 100
State Health Department | All Age Influenza Hospitalization Surveillance Project Case Report Form | 10 | 400 | 15/60 | 1000
Total |  |  |  |  | 12,153

Dated: November 27, 2012.
Ron A. Otten,
Director Office of Scientific Integrity, Office of the Associate Director for Science, Office of the Director, Centers for Disease Control and Prevention.

[FR Doc. 2012-29172 Filed 12-3-12; 8:45 am]

BILLING CODE 4163-18-P